DEPARTMENT OF HEALTH AND HUMAN SERVICES

Administration for Children and Families

[OMB #: 0970-0406]

Proposed Information Collection Activity; ACF Performance Progress Report, ACF-OGM-SF-PPR-B

AGENCY: Office of Grants Management, Administration for Children and Families, U.S. Department of Health and Human Services.

ACTION: Request for public comments.

SUMMARY: The Office of Grants Management (OGM), in the Administration for Children and Families (ACF) is requesting a 3-year extension of the form ACF-OGM-SF-PPR-B (Office of Management and Budget (OMB) #0970-0406, expiration 1/31/2026). There are minor changes proposed to this form to align with the requirements in 2 CFR 200.329 and reduce recipient burden by reducing the number of questions on the form. Additionally, the number of respondents has been reduced based on program office feedback.

DATES: Comments due February 2, 2026.

ADDRESSES: In compliance with the requirements of the Paperwork Reduction Act of 1995, ACF is soliciting public comment on the specific aspects of the information collection described above. You can obtain copies of the proposed collection of information and submit comments by emailing infocollection@acf.hhs.gov. Identify all requests by the title of the information collection.

SUPPLEMENTARY INFORMATION:

Description: The ACF OGM is proposing the continued collection of program performance data for ACF's discretionary grantees using the existing ACF-OGM-SF-PPR-B (OMB #0970-0406, expiration 1/31/2026). OMB grants policy requires recipients to report on performance. Specific citations are contained in 2 CFR part 200 Uniform Administrative Requirements, Cost Principles, and Audit Requirements for Federal Awards.

ACF requests to extend approval of the form with minor changes proposed to reduce respondent burden. Specifically, ACF proposes to remove four of the questions on the form. The remaining questions align directly with the requirements in 2 CFR 200.231. The form, developed by OGM, was created from the basic template of the OMB-approved reporting format of the Program Performance Report. OGM uses this data to ensure recipients are proceeding in a satisfactory manner in meeting the approved goals and objectives of the project, and to decide if funding should be continued for another budget period.

Respondents: ACF discretionary grantees. State governments, Native American Tribal governments, Native American Tribal Organizations, Local Governments, Universities, and Nonprofits with or without 501(c)(3) status with the Internal Revenue Service (IRS).

Annual Burden Estimates
Instrument | Total number of respondents | Annual number of responses per respondent | Average burden hours per response | Annual burden hours
ACF-OGM-SF-PPR-B | 2,000 | 2 | .33 | 1,320

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 2 CFR part 200.

Mary C. Jones,
ACF/OPRE Certifying Officer.

[FR Doc. 2025-21789 Filed 12-2-25; 8:45 am]

BILLING CODE 4184-01-P